SECURITIES AND EXCHANGE COMMISSION

[Release No. 34-79645; File Nos. SR-NYSEMKT-2016-52 and SR-NYSEArca 2016-103]

Self-Regulatory Organizations; NYSE MKT LLC; NYSE Arca, Inc.; Notice of Designation of a Longer Period for Commission Action on Proceedings To Determine Whether To Approve or Disapprove Proposed Rule Changes To Extend the Time Within Which a Member, Member Organization, an ATP Holder, an OTP Holder, or an OTP Firm Must File a Uniform Termination Notice for Securities Industry Registration (“Form U5”) and Any Amendments Thereto

December 21, 2016.

On June 16, 2016, NYSE MKT LLC (“NYSE MKT”) filed with the Securities and Exchange Commission (“Commission”), pursuant to Section 19(b)(1) ¹ of the Securities Exchange Act of 1934 (“Act”) ² and Rule 19b-4 thereunder,³ a proposed rule change to extend the time within which a member or member organization, or an Amex Trading Permit Holder (“ATP Holder”) must file a Form U5, or any amendments thereto. The proposed rule change was published for comment in the Federal Register on July 7, 2016.⁴ On July 14, 2016, NYSE Arca, Inc. (“NYSE Arca”) (NYSE MKT and NYSE Arca, each an “Exchange”) filed with the Commission, pursuant to Section 19(b)(1) ⁵ of the Act and Rule 19b-4 thereunder,⁶ a proposed rule change to extend the time within which an Options Trading Permit Holder (“OTP Holder”) or Options Trading Permit Firm (“OTP Firm”) must file a Form U5, or any amendments thereto. The proposed rule change was published for comment in the Federal Register on July 27, 2016.⁷ The Commission received one comment letter regarding the proposals.⁸ The New York Stock Exchange LLC (“NYSE”), on behalf of the Exchanges, responded to the comment on August 12, 2016.⁹ On August 17, 2016 ¹⁰ and September 1, 2016,¹¹ the Commission designated a longer period for Commission action on the respective proposed rule changes. On October 3, 2016, the Commission received another comment regarding the proposals.¹² On October 5, 2016, the Commission instituted proceedings under Section 19(b)(2)(B) of the Act ¹³ to determine whether to approve or disapprove the proposed rule changes.¹⁴ The Commission received four additional comment letters regarding the proposals.¹⁵ NYSE, on behalf of the Exchanges, responded to the OIA Letter on October 25, 2016.¹⁶

¹ 15 U.S.C. 78s(b)(1).

² 15 U.S.C. 78a.

³ 17 CFR 240.19b-4.

⁴ See Securities Exchange Act Release No. 78198 (June 30, 2016), 81 FR 44363.

⁵ 15 U.S.C. 78s(b)(1).

⁶ 17 CFR 240.19b-4.

⁷ See Securities Exchange Act Release No. 78381 (July 21, 2016), 81 FR 49286.

⁸ See letter from Judith Shaw, President, North American Securities Administrators Association, Inc. (“NASAA”), dated August 3, 2016, to Brent J. Fields, Secretary, Securities and Exchange Commission (“NASAA Letter”). While the NASAA Letter addresses issues associated with the NYSE MKT proposal, the Commission believes that the concerns raised by NASAA are equally applicable to the two proposals addressed in this Notice.

⁹ See letter from Elizabeth K. King, General Counsel and Corporate Secretary, NYSE, dated August 12, 2016, to Brent J. Fields, Secretary, Commission.

¹⁰ See Securities Exchange Act Release No. 78598, 81 FR 57642 (August 23, 2016).

¹¹ See Securities Exchange Act Release No. 78755, 81 FR 62912 (September 8, 2016).

¹² See letter from Rick A. Fleming, Investor Advocate, and Tracey L. McNeil, Ombudsman, Office of the Investor Advocate, Commission, dated October 3, 2016, to Brent J. Fields, Secretary, Commission (“OIA Letter”).

¹³ 15 U.S.C. 78s(b)(2)(B).

¹⁴ See Securities Exchange Act Release No. 79055, 81 FR 70460 (October 12, 2016).

¹⁵ See letters from Kevin Zambrowicz, Associate General Counsel, Securities Industry and Financial Markets Association, dated October 19, 2016; Michele Van Tassel, President, Association of Registration Management, November 4, 2016; Edwin L. Reed, Deputy Director, Alabama Securities Commission, dated November 14, 2016; and Mike Rothman, President, NASAA, dated November 16, 2016 (“NASAA Letter 2”), to Brent J. Fields, Secretary, Commission. While the NASAA Letter 2 addresses issues associated with the NYSEMKT proposal, the Commission believes that the concerns raised by NASAA are equally applicable to the two proposals addressed in this Notice.

¹⁶ See letter from Elizabeth K. King, General Counsel and Corporate Secretary, NYSE, dated October 26, 2016, to Brent J. Fields, Secretary, Commission.

Section 19(b)(2) of the Act ¹⁷ provides that, after initiating disapproval proceedings, the Commission shall issue an order approving or disapproving the proposed rule change not later than 180 days after the date of publication of notice of filing of the proposed rule change. The Commission may extend the period for issuing an order approving or disapproving the proposed rule change, however, by not more than 60 days if the Commission determines that a longer period is appropriate and publishes the reasons for such determination. For proposed rule change SR-NYSEMKT-2016-52, January 3, 2017 and March 4, 2017 are 180 days and 240 days, respectively, from July 7, 2016, the date that the proposed rule change was published for notice and comment in the Federal Register. For proposed rule change SR-NYSEArca 2016-103, January 23, 2017, and March 24, 2017, are 180 days and 240 days, respectively from July 27, 2016, the date that the proposed rule change was published for comment in the Federal Register.

¹⁷ 15 U.S.C. 78s(b)(2).

The Commission finds it appropriate to designate a longer period within which to issue an order approving or disapproving the proposed rule changes so that it has sufficient time to consider the proposed rule changes and the comments received.

Accordingly, the Commission, pursuant to Section 19(b)(2) of the Act ¹⁸ designates, for SR-NYSEMKT-2016-52 and SR-NYSEArca-2106-103, March 4, 2017 and March 24, 2017, respectively, as the dates by which the Commission shall either approve or disapprove the proposed rule changes.

¹⁸ Id.

For the Commission, by the Division of Trading and Markets, pursuant to delegated authority.¹⁹
¹⁹ 17 CFR 200.30-3(a)(57).
Eduardo A. Aleman,
Assistant Secretary.

[FR Doc. 2016-31306 Filed 12-27-16; 8:45 am]

BILLING CODE 8011-01-P